DEPARTMENT OF THE INTERIOR

Minerals Management Service

Outer Continental Shelf (OCS) Policy Committee; Notice and Agenda for Meeting

AGENCY: Minerals Management Service, Interior.

ACTION: Notice of meeting.

SUMMARY: The OCS Policy Committee will meet via teleconference at the Days Hotel and Conference Center at Dulles in Herndon, Virginia.

DATES: Wednesday, June 22, 2005, from 1 p.m. to 5 p.m. eastern standard time.

ADDRESSES: The Days Hotel and Conference Center at Dulles, 2200 Centerville Road, Herndon, Virginia 20170, telephone (703) 471-6700.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal States, local government, the environmental community, industry and other parties involved with the OCS Program. It provides policy advice to the Secretary of the Interior through the Director of the MMS on all aspects of leasing, exploration, development, and protection of OCS resources.

At the November 2004 OCS Policy Committee meeting, three subcommittees were established to address alternative energy/uses in the OCS, the 5-Year OCS Oil and Gas Leasing Program, and hard minerals (the Marine Minerals Program). The 5-Year OCS Oil and Gas Leasing Program Subcommittee held its first meeting on May 4, 2005, in Herndon, Virginia. At this meeting, the Subcommittee developed a resolution relative to the next 5-year (2007-2012) OCS oil and gas leasing program. The Hard Minerals Subcommittee held its first meeting on May 5, 2005, in Herndon, Virginia. At this meeting, the Subcommittee developed two resolutions relative to the Minerals Management Service's sand and gravel program and a proposed Marine Minerals Program Information Transfer Meeting. In compliance with the Federal Advisory Committee Act, the resolutions will be presented to the full OCS Policy Committee for consideration.

A special meeting of the full OCS Policy Committee has been called to address the resolutions of the 5-Year Oil and Gas Leasing Program and the Hard Minerals Subcommittee. Members have been given the option to participate in person or via teleconference.

The meeting is open to the public. Approximately 100 visitors can be accommodated on a first-come-first-served basis.

Upon request, interested parties may make oral or written statements to the OCS Policy Committee. Such requests should be made no later than June 16, 2005, to Jeryne Bryant. Requests to make oral statements should be accompanied by a summary of the statement to be made. Please see FOR FURTHER INFORMATION CONTACT section for address and telephone number.

Minutes of the OCS Policy Committee meeting will be available for public inspection and copying at the MMS in Herndon, Virginia.

Authority: Federal Advisory Committee Act, Pub. L. 92-463, 5 U.S.C. Appendix 1, and the Office of Management and Budget's Circular No. A-63, Revised.

Dated: June 3, 2005.
Thomas A. Readinger,
Associate Director for Offshore Minerals Management.

[FR Doc. 05-11353 Filed 6-7-05; 8:45 am]

BILLING CODE 4310-MR-P